DEPARTMENT OF COMMERCE

International Trade Administration

A-570-888

Floor-Standing, Metal-Top Ironing Tables and Certain Parts Thereof from the People's Republic of China: Notice of Partial Rescission of Antidumping Duty Administrative Review

AGENCY: Import Administration, International Trade Administration, Department of Commerce.

SUMMARY: On September 29, 2006, the Department of Commerce (the Department) published in the Federal Register a notice of initiation of the antidumping duty administrative review on floor-standing, metal-top ironing tables and certain parts thereof (ironing tables) from the People's Republic of China (PRC). The period of review (POR) is August 1, 2005, through July 31, 2006. This review is now being rescinded for Foshan Shunde Yongjian Housewares & Hardware Co., Ltd. (Foshan Shunde) because the only requesting party withdrew its request in a timely manner.

EFFECTIVE DATE: January 23, 2007.

FOR FURTHER INFORMATION CONTACT: Kristina Horgan or Bobby Wong, AD/CVD Operations, Office 9, Import Administration, International Trade Administration, U.S. Department of Commerce, 14th Street and Constitution Avenue, NW, Washington, DC 20230; telephone: (202) 482-8173 or (202) 482-0409, respectively.

SUPPLEMENTARY INFORMATION:

Background

On August 6, 2004, the Department published in the Federal Register an antidumping duty order on ironing tables from the PRC. See Notice of Amended Final Determination of Sales at Less Than Fair Value and Antidumping Duty Order: Floor-Standing, Metal-Top Ironing Tables and Certain Parts Thereof From the People's Republic of China, 69 FR 47868 (August 6, 2004) (Ironing Tables Order). On August 1, 2006, the Department published a Notice of Opportunity to Request Administrative Review of Antidumping or Countervailing Duty Order, Finding, or Suspended Investigation, 71 FR 43441.

On August 2, 2006, Foshan Shunde, requested, in accordance with 19 CFR 351.213(b)(2), an administrative review of the antidumping duty order on ironing tables from the PRC. On August 29, 2006, Since Hardware (Guangzhou) Co., Ltd. (Since Hardware) requested, in accordance with 19 CFR 351.213(b)(2), an administrative review of the antidumping duty order on ironing tables from the PRC. On August 31, 2006, Home Products International Inc., petitioner, also requested, in accordance with 19 CFR 351.213(b)(1), an administrative review of the antidumping duty order on ironing tables from the PRC for Since Hardware for the POR. On September 29, 2006, the Department initiated an administrative review of the two companies. See Initiation of Antidumping and Countervailing Duty Administrative Reviews, 71 FR 57465 (September 29, 2006).

On December 21, 2006, Foshan Shunde filed a letter withdrawing its request. Foshan Shunde was the only party to request a review of entries of subject merchandise exported by Foshan Shunde.

Rescission of Review

The applicable regulation, 19 CFR 351.213(d)(1), states that if a party that requested an administrative review withdraws the request within 90 days of the publication of the notice of initiation of the requested review, the Secretary will rescind the review. Foshan Shunde timely filed a request withdrawing its request for an administrative review within the 90-day deadline, in accordance with 19 CFR 351.213(d)(1). Because Foshan Shunde was the only party to request an administrative review, we are partially rescinding this review of the antidumping duty order on ironing tables from the PRC covering the period August 1, 2005, through July 31, 2006, with respect to Foshan Shunde.

Assessment

The Department will instruct U.S. Customs and Border Protection (CBP) to assess antidumping duties on all appropriate entries. For the company for which this review is rescinded, antidumping duties shall be assessed at rates equal to the cash deposit of estimated antidumping duties required at the time of entry, or withdrawal from warehouse, for consumption, in accordance with 19 CFR 351.212(c)(2). The Department intends to issue assessment instructions to CBP 15 days after the date of publication of this notice.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751 and 777(i) of the Tariff Act of 1930, as amended, and 19 CFR 351.213(d)(4).

Dated: January 12, 2006.
Stephen J. Claeys,
Deputy Assistant Secretary for Import Administration.

[FR Doc. E7-868 Filed 1-22-07; 8:45 am]

BILLING CODE 3510-DS-S